NATIONAL AERONAUTICS AND SPACE ADMINISTRATION

[Notice: (18-062)]

NASA Advisory Council; Ad Hoc Task Force on STEM Education; Meeting

AGENCY: National Aeronautics and Space Administration.

ACTION: Notice of meeting.

SUMMARY: In accordance with the Federal Advisory Committee Act, as amended, the National Aeronautics and Space Administration (NASA) announces a meeting of the Ad Hoc Task Force on Science, Technology, Engineering and Mathematics (STEM) of the NASA Advisory Council (NAC). This Task Force reports to the NAC.

DATES: Tuesday, August 28, 2018, 9:30 a.m.-2:30 p.m., PDT.

FOR FURTHER INFORMATION CONTACT: Dr. Beverly Girten, Designated Federal Officer, Office of Education, NASA Headquarters, Washington, DC 20546, (202) 358-0212, or beverly.e.girten@nasa.gov.

SUPPLEMENTARY INFORMATION: This meeting will be virtual and will be available telephonically and by WebEx only. You must use a touch tone phone to participate in this meeting. Any interested person may dial the toll free access number 1-844-467-6272 or toll access number 1-720-259-6462, passcode: 634012, followed by the # sign to participate in the meeting by telephone. To join via WebEx, the link is https://nasa.webex.com/, the meeting number is 993 201 922 and the password is NAC2018$ (case sensitive.) NOTE: If dialing in, please “mute” your telephone. The agenda for the meeting will include the following:

—Opening Remarks by Chair

—Update on New Task Force Members

—Transition Update and STEM Engagement

—Business and Administrative Systems Office Implementation and STEM Engagement Strategic Plan

—STEM Education Advisory Panel

—Status on Federal Five-Year Strategic Plan

—Performance and Evaluation Update

—Space STEM Forum and 50th Anniversary Plans

—Findings and Recommendations to the NAC

—Other Related Topics

For NASA Ames Research Center visitor access, please go through the Main Gate and show a valid government-issued identification (i.e., driver's license, passport, etc.) to the security guard. Inform the security guard that you are attending a meeting in Building 3. Attendees will also be required to sign a register prior to entering the meeting room. It is imperative that the meeting be held on these dates to the scheduling priorities of the key participants.

Carol J. Hamilton,
Acting Advisory Committee Management Officer, National Aeronautics and Space Administration.

[FR Doc. 2018-16963 Filed 8-7-18; 8:45 am]

BILLING CODE 7510-13-P